DEPARTMENT OF HEALTH AND HUMAN SERVICES

Centers for Disease Control and Prevention

Disease, Disability, and Injury Prevention and Control Special Emphasis Panel (SEP): Initial Review

The meeting announced below concerns Cooperative Research Agreements Related to the World Trade Center Health Program (U01) PAR 12-126, initial review.

Correction: The notice was published in the Federal Register on January 30, 2013, Volume 78, Number 20, Page 6329. The place should read as follows:

Place: Atlanta Marriott Century Center, 2000 Century Boulevard NE., Atlanta, Georgia 30345-3306, Telephone: (404) 325-0000.

Contact Person for More Information: Nina Turner, Ph.D., Scientific Review Officer, CDC, 1095 Willowdale Road, Mailstop G800, Morgantown, West Virginia 26505, Telephone: (304) 285-5976.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-03134 Filed 2-11-13; 8:45 am]

BILLING CODE 4163-18-P